DEPARTMENT OF EDUCATION

Office of Special Education and Rehabilitative Services; List of Correspondence

AGENCY: Department of Education.

ACTION: List of correspondence from July 1, 2002 through September 30, 2002.

SUMMARY: The Secretary is publishing the following list pursuant to section 607(d) of the Individuals with Disabilities Education Act (IDEA). Under section 607(d) of IDEA, the Secretary is required, on a quarterly basis, to publish in the Federal Register a list of correspondence from the Department of Education received by individuals during the previous quarter that describes the interpretations of the Department of Education of IDEA or the regulations that implement IDEA.

FOR FURTHER INFORMATION CONTACT: Melisande Lee or JoLeta Reynolds. Telephone: (202) 205-5507.

If you use a telecommunications device for the deaf (TDD), you may call (202) 205-5637 or the Federal Information Relay Service (FIRS) at 1-800-877-8339.

Individuals with disabilities may obtain a copy of this notice in an alternative format (e.g., Braille, large print, audiotape, or computer diskette) on request to Katie Mincey, Director of the Alternate Format Center. Telephone: (202) 205-8113.

SUPPLEMENTARY INFORMATION: The following list identifies correspondence from the Department issued from July 1, 2002 through September 30, 2002.

Included on the list are those letters that contain interpretations of the requirements of IDEA and its implementing regulations, as well as letters and other documents that the Department believes will assist the public in understanding the requirements of the law and its regulations. The date and topic addressed by a letter are identified, and summary information is also provided, as appropriate. To protect the privacy interests of the individual or individuals involved, personally identifiable information has been deleted, as appropriate.

Part B—Assistance for Education of all children with disabilities

Section 611—Authorization; Allotment; Use of Funds; Authorization of Appropriations.

Topic Addressed: Grants to States

• Letter dated September 25, 2002 to Rhode Island Department of Education Office of Special Needs Director Dr. Thomas P. DiPaolo, clarifying that although the effective date of a Part B grant cannot be changed, it is possible, subject to certain conditions, to grant pre-award costs to a State to mitigate significant hardship on State and local programs if there is very limited potential harm to the Federal interest.

Topic Addressed: Authorization of Appropriations

• Memorandum dated September 30, 2002 to Governors and Chief State School Officers, regarding nonregulatory guidance pertaining to Federal education programs, including section 611 of IDEA, with advance appropriations in fiscal year (FY) 2002.

Section 612—State Eligibility

Topic Addressed: Confidentiality of Education Records

• Letter dated July 30, 2002 to Pennsylvania Assistant Director of Special Education John Tommasini from Family Policy Compliance Office Director LeRoy S. Rooker, explaining that States must resolve complaints filed by non-parent individuals or organizations even if the parent refuses to consent to the disclosure of personally identifiable information about the student; but, in such cases, the State may not disclose personally identifiable information about the student.

• Letter dated July 29, 2002 to U.S. Representative C.L. “Butch” Otter from Family Policy Compliance Office Director LeRoy S. Rooker, regarding the right of parents to obtain copies of education records and whether a parent's representative can inspect and review education records.

• Letter dated July 18, 2002 to individual, (personally identifiable information redacted), regarding the creation, retention, and destruction of education records, and records handling and storage.

Topic Addressed: Maintenance of Effort

• Letter dated July 16, 2002 to Michael J. Hernandez, Esq., regarding the use of Medicaid reimbursement funds to construct or equip special education classrooms.

Section 615—Procedural Safeguards

Topic Addressed: Due Process Hearings

• Letter dated September 12, 2002 to Louisiana Assistant Legislative Auditor David K. Greer, regarding whether due process hearings under the IDEA may be conducted by Louisiana's administrative law judge panel and clarifying that as a general matter, the Office of Special Education Programs does not interpret State law, or opine about its application, unless State law appears to conflict with Federal requirements.

Part C—Infants and Toddlers with Disabilities

Section 634—Eligibility

Topic Addressed: State Participation

• Letter dated August 13, 2002 to individual, (personally identifiable information redacted), clarifying that participation by States in Part C is voluntary.

Section 636—Individualized Family Service Plan

Topic Addressed: Natural Environments

• Letter dated July 30, 2002 to individual, (personally identifiable information redacted), regarding the history of implementation of the natural environments requirements of Part C of the IDEA since the early intervention program was originally enacted, and clarifying that, based on the child's individualized family services plan (IFSP), appropriate services can be provided in other environments.

Part D—National Activities to Improve Education of Children with Disabilities

Subpart 2—Coordinated Research, Personnel Preparation, Technical Assistance, Support, and Dissemination of Information.

Section 687—Technology Development, Demonstration, and Utilization; and Media Services

Topic Addressed: Captioning

• Letter dated August 8, 2002 to House Education and Workforce Committee Chairman John Boehner, generally describing the process by which grant awards are made under the IDEA to provide support for the captioning of educational, news, and informational television, videos, and materials.

Other Letters Relevant to the Administration of IDEA Programs

Topic Addressed: Child with a disability

• Letter dated July 12, 2002 to U.S. Senator Mary L. Landrieu, regarding the identification and evaluation of handicapped persons under Section 504 of the Rehabilitation Act of 1973.

Topic Addressed: Accountability for Results

• Letter dated August 13, 2002 to Dr. Lucille Linde, clarifying that the Department of Education does not have the authority to mandate the use of specific assessment and instructional/intervention programs in public schools and that these decisions are made at the State and local school district levels.

• Dear Colleague letter dated July 24, 2002, regarding the implementation of the No Child Left Behind Act and statewide accountability systems, and providing guidance on adequate yearly progress.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-800-293-6498; or in the Washington, DC, area at (202) 512-1530.

Note: The official version of this document is published in the Federal Register. Free Internet access to the official edition of the Federal Register and the Code of Federal Regulations is available on GPO Access at: http://www.access.gpo.gov/nara/index.html.

(Catalog of Federal Domestic Assistance Number 84.027, Assistance to States for Education of Children with Disabilities)
Dated: February 5, 2003.
Robert H. Pasternack,
Assistant Secretary for Special Education and Rehabilitative Services.

[FR Doc. 03-3257 Filed 2-7-03; 8:45 am]

BILLING CODE 4000-01-P